DEPARTMENT OF COMMERCE

National Oceanic and Atmospheric Administration

RIN 0648-XF553

South Atlantic Fishery Management Council; Public Hearings

AGENCY: National Marine Fisheries Service (NMFS), National Oceanic and Atmospheric Administration (NOAA), Commerce.

ACTION: Notice of public hearings.

SUMMARY: The South Atlantic Fishery Management Council (Council) will hold public hearings via webinar pertaining to Amendment 43 to the Snapper Grouper Fishery Management Plan (FMP) for the South Atlantic Region. The amendment would revise the annual catch limit for red snapper in the South Atlantic Economic Exclusive Zone (EEZ).

DATES: The public hearings will be held via webinar on August 8, 2017 at 6 p.m. and August 10, 2017 at 10 a.m. and 6 p.m. An informal Question and Answer (Q&A) session will be held via webinar on August 3, 2017 beginning at 6 p.m.

ADDRESSES: Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: The Q&A session and public hearings will be conducted via webinar. Registration for each webinar is required. Registration information and public hearing materials will be posted on the Council's Web site at http://safmc.net/safmc-meetings/public-hearing-and-scoping-meeting-schedule/ by July 27, 2017.

During the Q&A session Council staff will present an overview of the amendment and will be available for informal discussions and to answer questions via webinar. During the public hearings, Council staff will review the amendment and members of the public will have the opportunity to provide formal comments for consideration by the Council.

Written comments may be submitted online beginning July 27, 2017 at: http://safmc.net/safmc-meetings/public-hearing-and-scoping-meeting-schedule/. Written comments may also be submitted to the Council office (see ADDRESSES). Comments will be accepted until 5 p.m. on August 15, 2017.

Special Accommodations

These meetings are physically accessible to people with disabilities. Requests for auxiliary aids should be directed to the council office (see ADDRESSES) 3 days prior to the meeting.

Note: The times and sequence specified in this agenda are subject to change.

Authority: 16 U.S.C. 1801 et seq.

Dated: July 17, 2017.
Tracey L. Thompson,
Acting Deputy Director, Office of Sustainable Fisheries, National Marine Fisheries Service.

[FR Doc. 2017-15261 Filed 7-19-17; 8:45 am]

BILLING CODE 3510-22-P